DEPARTMENT OF THE TREASURY

Internal Revenue Service

Quarterly Publication of Individuals, Who Have Chosen to Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2005.

LNAME | FNAME | MNAME
PENNER | KRISTEN | ELIZABETH.
VAN-PANHUYS | JAN | E.
KOSEKI | YUJI
BATES | JOHN | RAPHAEL.
ROWLAND | ANTONIA
VANDERWYST | MARK | WILLIAM.
VANDERWYST | ANITA | JOANNE.
LEONARD | MARGARET | H.
VINCI | CHRISTINE | MARIETTA.
GREENE | PAULA
ROUHIAINEN | PEKKA
CHUN | JUNG SUN
BISHOP | ZILLAH
ROUHIAINEN | LIISA
TALAMANTES | GABRIEL | B.
RUTLAND | MONIKA
DANSET | PAUL | J.
DANSET | SEIKO
KO | PETER | P. J.
RAHME | DIANE | M.
OHTSU | YOSHIKO
OHTSU | MASAKAZU
WEBER | JOHANNES
MATHIEU | ALEXIS
Colombo | Marco
Law | Samuel | S.
Grant | Bridget
Neuenschwander | Anna | Katharina.
Doomernick | Marinus | A.
O'Leary | Raymond | F.
Westwood | William | J.
Williams | Keith | Robert.
Rowland | William | S.
Borkowsky | Roberto | D.
Azario | Tandy | B.
Barker | Duncan | W.
Nam | Ki Yong
Byun | Keun Hae
Timms | Joann
Cha | Sang-gu
Lalvani | Dinesh
Chow | Lai Wah
Malmqvist | Jan
Malmqvist | Elsa
Lundy | Antony
Bousba | Hamid
Abel | Craig
Schmidlin | Colette
Ebi | Thomas
Kim | Soo Young-Nars
Morison | James
Chammas | Emile
Utsumi | Taku
Szlenkier | John
Graetz | Connie
Graetz | Galleon
Ling | Vincent | Shuiyum.
Aubin | Paul
Meurice | Eric
Meurice | Marie
Philip | Rafael
Rivers | Eleni
Brocklemans | Helmut
Wong-Tse | Betty Shoul | L.
Scott | Adrian
Watson | James | W.
Watson | Irene | F.
Radermacher | Michael | W.
Radermacher | Cornelia | R.
May | Gabriele | K.
May | Alan | L.
Tseng | Kingston | H.
Wu | Li-Pei
Christmas | John | W.
Grant | Peter | J.
Grant | Sarah | E.
Kreiz | Ynon
Heselton | Mark | M.
Heselton | Laura | S.
Heselton | Trevor | M.
Heselton | Christopher | J.
Warren | Harold | D.
Warren | Judith | P.
Ashbrook | Kate
Kwan | Susan | T.
Chandris | Maria | Loula.
Chan | Vincent | C.
Tze-Lan | Julia | Cheung.
Cointreau | Richard | Mercier.
Donohoe | Desmond | Joseph.
Donohoe | Frances
Rieley | James | B.
Hone | Elizabeth | Kellogg.
Fernandez | Edouard | James.
Sanderson | Audrey | W.
Roos | Klas-Johan
Nambu | Hiroko
Louie | Paul | Kwok-Yi.
Leung | Vincent-Fun | S.
Daskalopoulos | Angelika | D.
Pineda-Van Gelder | Jose | M.
Heinz | Steven
Chan | Sunny
Garside | Geoffrey
Donohoe | Christopher
Weltzien | Tobias
Karlsson | Pehr | M.
Garcia-Van der Henst | Jose | S.
Kemmitt | Greg | M.
Oike | Yoshihito
Oike | Tomiko
Riboud | Thomas | A.
Iskenderian | Apet | G.
Cheong | Angela | Syn.
Asada | Sadako
Lourie | Jonathan | Harry.
Ting | Albert | Kwang-Chin.
Kremer | Serge | R. G.
Kulisic | Alfredo
Grant | Andrew | Edward.
Gaines | Ruth | Lynette.
Chan | Bernard | Charnwut.
Takada | Yoko
Van Panhuys | Ernet | Jochem.
Guglielmi | Guido
Guglielmi | Silvia
Guglielmi | Marta
Clark | Geoff | B.
Stark | Robert
Yip | Denis | F.
Takada | Hisashi
Michalopoulos | Angelos
Thornton | Malcolm
Clark | Paul | S.
Grewal | Randeep
Brooke-Kemmitt | Natalie | J.
Khadjenouri | Massoumeh
Guglielmi | Nella
Huang | Wei-I | Hung.
Alster | Henri
Han | Bill | Q.
Leung | Marianne | Shih-Ti.
Adams | Hilary
Adams | David | Michael
Cai | Hungjun | Catherine
Chuang | John | Tiong Choon
Gilbert | Faie
Mok | Terence | M.
Fain | Maurice
Wu | Vivienne
Yamanaka | Masayoshi
Goodwillie | David
Crawford | Donald | A. H.
Crawford | Jill | E.
YOUNG | Diana-Maria
Rub-Friend | Eva | H.
Ma | Ian | Victor.
Ling | Vincent | S.
Burch | Bradley | Drew.
Lyles | Morgan | S.
Pang | Heng
Chan | Victor | Hok Yiu.
Kelley | Eric | Lynn.
Von der Weid | Diane
Aonuma | Kenta
Atkins | Julie | Jo.
Clark | Jon | P.
DeMicheli | Giovanni
Jones | Emma | A.
Jones | Timothy | R.
Morales-Cordovez | Sandra | J.
Belldegrun | Benjamin
Whitnack | Bryan | F.
Hubbard-Tinderland | Sharleen | D.
Slaney | Grace | Marie.
Loughery | James | Gardner.
Anderson | Robert | Irvin.
Crème | Lawrence | N.
Gunderson | Eva
Gottenberg | Russell | H.
Radziwill | Mary | E.
Nitsch | Bettina | E.
Nitsch | Karl | A.
Trinckquel | Vera | L.
Trinckquel | Henrique | A.
Vandoros | Andrei | P.
Gan | Jian Mei
Wang | Sing
Miller | Norma | Marilyn.
Hoseason | Christina | H.
Levesley | Mark | H.
Bourne | Mary | Leavitt.
Koh | Jane
Jennings | George Jr. | L.
Kim | Rose | H.
Papai | Mary Carolyn | Brown.
Han | Jean
Sorimachi | Masayuki | Charlie.
Lebel | Louise | Cecile.
Lebel | Claire | P.
Kronman | Harry
Eylat | Martin
Park | Erin | Jessica.
Kwon | Sun Yi
Shon | Diana | Sung Hee.
Shin | Charles | Chul.
Thompson | Erin | M.
Orvis | Colleen | Teresa.
Goury du Roslan | Marie-Winter
Karrer | Sebastian | L. A.
Bechtel | Shirley | Ann.
Kott | Elizabeth
Munoz | Wilfredo Jr
Pettway | Vanessa | Jasmin.
Shurban | Constantine | Robert.
Kiauka | Paul | Burno.
McGinnes | Nicholas | James.
Eyelat | Odette
Smolar | Brad | S.
Pohl | Claudia | Diane.
Dermer | Ron
Bobrousky | Robert
Hol | Theodora | Maria.
Eguchi | Takaaki
Eguchi | Narumi
Louie | Paul | Kwok-Yi.
Wong Tse | Betty | Shou Ling.
Mok | Terence | Matthew Wah Fung.
Tseng | Richard | Hing-Tak.
Chen | Shirley | Shiyou.
Levesley | Mark | Howard.
Birk | Sven | Gunnar.
Weber-Wulff | Debora | Elaine.
Schjetlein | Ingrid | Prescott.
Dean | Jimmy | Lee.
Lake | Jason | Leonard.
Freiha | Isam | Bassam.
Long | John | Thomas.
Achard | Stephanie
Spiegel | Marcus | Alexander.
Habbershaw | Angela | J.
Habbershaw | George | Rodney.
Keller | Chong | Hwa.
Tan | Henry
Kim | Jihyun
Gottenberg | Russell | M.
Davies | Marian | Linda.
Morison | James | Eliot.
Chan | Winnie | Ho.
Chan | Wilbert | Wing Kwong.
Wedel | Paget | Von.
Carras Radziwill | Mary | E.
Loat | James | Anthony Howard.
Piliero | Richard | Andrew Cornis.
Kwan | Susan | Ting.
Colombo | Marco
Dissell | Terence | Lee.
Fox | Katherine | Knox.
Watson | Ian | David.
Price | Charles | Henry.
Brehmer | Karl | Steik.
Manthos | Anthony | Dimitri.
Jenkins | Neil | Colin.
Hoseason | Christina | Helen.
Tan | Michael | Young Han.
Lee | Sylvia | Eunshil.
Kirschner | Paul
Rubins | William | Bochert.
Ma | Ian | Victor.
Cai | Catherine | Hongjun.
Melling | Susan
Melling | Jack
Parkes | Andrew
Abe | Masatoshi
Abe | Miyoko
Ko | Peter | Pil Jae.
Scullion | John | Scott.
Pierson | Carolyn | Sue.
Greatwood | Larry
Ruiz-Murcia | Monica
Gray | Lewis | Hyde.
Papai | Mary | Carolyn.
Fujimori | Tohru
Kulkarni | Nitin | G.
Mannix | Janice | M.
Mansfield | Eva
Smolar | Brad | S.
Marquis | Diane
Bondarenko | Alexander | S.
Zacharias | Mark
Tilden | Mark | W.
Sato | Isao
Sato | Sachiko
Stafford | Morag | Anne.
Orkisz | Michal | J.
Brady | Brendan | M.
Sato | Yasunobu
Chan | Victor | Hok Yiu.
Ravinder | Mehra
Johnston | Sheila | M.
Johnston | Blair | D.
Kivits | Bart
Brusselers | Corine
Sable | David
Burch | Bradley | Drew.
Depotter | Patrick | V.
Fujita | Yosuke
Bastien | Claude
Bastien | Louise
Mannix | Patrick | C.
Matsuno | Soichi
Matsuno | Mitsuko
Bendixson | Frances
Roberts | Roger | W.
Pang | Heng
Decker | Jerry | W.
Marx | Rafael
Thrasher | Susanne | M.
Williams | Keith | Robert.
Stazyk | Mahrukh
Thrasher | Francis | Martin.
Kirkconnell | Moses | Ian.
Curteman | Robert | W.
Morrison | Murray
Thompson | Alexandra | M.
Harris | Peter | Howard.
Lebel | Louise
Lebel | Claire
McKirdy | Annemarie
Walsh | Robert | Anthony.
Chapman | Lauren | J.
Chapman | Colin | A.
Lingua | Daniele
Ojjeh | Tatiana
Wong | Kevin
Berbers | Veronica | Valentine.
Schubiger | Marianne | Stuck.
Watson | Mark | Michael.
Barker | Duncan | W.
Bampfield | Howard | Anthony.
Nerlinget | Frederick | M.
Smith | Ian | Grattan.
Agha | Oliver
Tasca | Elia | Henry.
Severgnini | Achille
Knight | Rickey | Dale.
Chang | Mi | Cha.
Froehlich | Bernd | Werner.
Kim | Jane | Jung.
Lee | Hye | Suk.
Spence | Sun | Nam.
Choo | Narae | Mikyung.
Kim | Kyung | Sun.
Schnittker | Frederick | Adolf.
Nilson | Arne | Erland.
Yi | Chom | Yai.
Cookson | Daniela | Zoe.
Said | Adam
Sambals | Linda
Dillon | Angela | Maria.
Dickinson | Michael | Robert.
Sandhaaland | Nina | Kathleen.
Rainey | Leonard
Wirz | Daria | Margaret.
Grasso | Louis
Mosimann | Martin | Charles.
Hirzel | Gabriel | Adrian.
Spero | Steven
Su | Benjamin | Yu Te.
LeJeune | Rachelle | Joan.
Hoyem | Daniel
Peterson | David | Lee.
Methven | Charlotte | Elizabeth.
Doorduin | Mark | Willem.
Nicolaysen | Lucy | Tessa.
Nerlinger | Frederick | M.
Dimitrov | Radoslav
Bastien | Paul
Cheung | Chiu | Hung.
Gray | David | B.
Chan | Vincent | C.
Chan | Sunny
Johns | Joseph | Bradley.
Vik | Geir | Joan.
Rosebrook | Christopher | Jon.
Mannion | Shelley | Ann.
Bilfinger | Heidi | Erika.
Bilfinger | Victor | Wilhelm.
Reiners | Benjamin
Pierce | Barry | Alan.
Chang | David | M.
Lee | Hyung | Nam.
Mason | Ian | Robert.
Mason | Jane | Ellen Mary.
Chutter | Jessica | C.
Colchary | Janice
Lietuvietis | Vilis | I.
Knussi | Monica
Essinger | Jacques
Hallen-Berg | Astrid
Wandrup | Marion
Hail | Gerald | Ferguson.
Voinov | Alexis | Peter.
Sukmansky | Ivan
Wu | Chung-Fern
Kuen-Bao | Frank
Stastny | Peter
Miller | Norma | Marilyn.
Holden | Sara | Elizabeth Monks.
Griggers | James | Eldon.
Mannix | Sharyn | Eileen.
Olga | Princess of Greece
Duchardt | Karl | H.
Duchardt-Hellbarth | Eva | M.
Hsiao-Ling | Gou
Bateson | Yvonne

Dated: November 8, 2006.
Angie Kaminski,
Examination Operations, Philadelphia Campus Compliance Services.

[FR Doc. E6-20172 Filed 11-27-06; 8:45 am]

BILLING CODE 4830-01-P